DEPARTMENT OF COMMERCE

National Oceanic and Atmospheric Administration

50 CFR Part 300

[Docket No. 040209049-4117-02; I.D. 091404G]

Pacific Halibut Fisheries; Oregon Sport Fisheries

AGENCY: National Marine Fisheries Service (NMFS), National Oceanic and Atmospheric Administration (NOAA), Commerce.

ACTION: Inseason action; request for comments.

SUMMARY: NMFS announces changes to the regulations for the Area 2A sport halibut fisheries off the central coast of Oregon. This action would increase the daily bag limit and make additional potential season reopening dates available to halibut fishing in the Oregon central coast recreational fishing subarea. The purpose of this action is to allow increased access to Oregon's central coast recreational halibut quota.

DATES: Effective September 22, 2004, through the 2005 annual management measures which will publish in a later Federal Register document. Comments on this rule will be accepted through October 7, 2004.

ADDRESSES: You may submit comments on the inseason action, identified by I.D. 091404G, by any of the following methods:

• E-mail: halibutinseason01.nwr@noaa.gov. Include 091404G in the subject line of the message.

• Federal eRulemaking Portal: http://www.regulations.gov. Follow the instructions for submitting comments.

• Fax: 206-526-6736, Attn: Jamie Goen.

• Mail: D. Robert Lohn, Administrator, Northwest Region, NMFS, 7600 Sand Point Way NE, Seattle, WA 98115-0070.

FOR FURTHER INFORMATION CONTACT: Jamie Goen (NMFS, Northwest Region), phone: 206-526-4646.

SUPPLEMENTARY INFORMATION: International Pacific Halibut Commission (IPHC) annual management measures for the Pacific halibut fisheries were published on February 27, 2004 (69 FR 9231). The Area 2A Catch Sharing Plan for Pacific halibut off Washington, Oregon, and California was implemented subsequently at 69 FR 24524, May 4, 2004. Those regulations established the 2004 area quota for the central coast of Oregon (Cape Falcon, OR to Humbug Mountain, OR) all-depth fishery of 282,178 lb (128 mt) and the related management measures. The third all-depth sport fishery season in the central area is scheduled to be open 2 days per week (Friday and Saturday) on previously announced specific dates, and the nearshore fishery (shoreward of 40-fathoms) is scheduled for 7 days per week, both with a one-fish bag limit.

The pace of the all-depth halibut fishery has been slow off the Oregon central coast in recent years. Oregon Department of Fish and Wildlife (ODFW), the agency that directly monitors the sport halibut fishery off Oregon's coast, reports sport halibut catch in the 2004 fishery, as of September 1, 2004, to have 77,736 lb (35.3 mt) of quota remaining out of a 282,178 lb (128 mt) quota for the Oregon central coast fishery (Note: the remaining quota includes 20,858 lb (9.5 mt) remaining in the nearshore fishery). For the remainder of the year, this fishery is scheduled to be open, as quota allows, on September 17, 18 and October 1, 2, 15, 16, 29 and 30. In order to increase opportunity for participation in sport halibut fisheries in the Oregon central coast subarea, ODFW consulted with NMFS and the IPHC, and they together recommended that additional potential season reopening dates be available for the all-depth fishery, that the fishery be changed from a 2-day per week (Friday and Saturday) fishery to a 3-day per week (Friday through Sunday) fishery, and that the fishery be changed from a one-fish bag limit to a two-fish bag limit. The increased bag limit would apply to the nearshore fishery, shoreward of 40-fathoms, in this subarea as well.

These changes would increase the days available that a vessel could fish for halibut in the all-depth area and allow the retention of an additional fish (up to two) in both the all-depth and nearshore areas, as quota allows. The additional potential reopening dates and increased bag limit announced in this document allow flexibility in scheduling the remainder of the season and increased opportunity to attain the 2004 sport halibut quota for this subarea. ODFW hopes that by adding potential reopening dates and increasing the bag limit, anglers will be able to access the full halibut quota for this subarea and not leave quota remaining, as in 2002 and in 2003, where about 50,000 lb (22.7 mt) and 80,000 lb (36.3 mt) of combined central coast quota remained unharvested, respectively.

Section 25 of the 2004 Pacific halibut regulations provides NMFS with the authority to make certain inseason management changes, provided that the action is necessary to allow allocation objectives to be met, and that the action will not result in exceeding the catch limit for the area. The Catch Sharing Plan's (CSP's) structuring objective for the Oregon central coast area is to provide two periods of fishing opportunity in Spring and in Summer in productive deeper water areas along the coast, principally for charterboat and larger private boat anglers, and to provide a period of fishing opportunity in the summer for nearshore waters for small boat anglers.

In consultation with the ODFW and the IPHC, NMFS has determined to increase the bag limit in this subarea to two-fish per day and to allow the following additional potential reopening dates to sport halibut fishing in the Oregon central coast all-depth subarea for the remainder of 2004: September 24, 25, 26, and October 1, 2, 3, 8, 9, 10, 15, 16, 17, 22, 23, 24, 29, 30 and 31, in order to meet the CSP's objectives. Additionally, this action is not expected to result in bycatch of overfished groundfish species above the amounts previously projected to be taken in Oregon sport fisheries in 2004, particularly the 3.2 mt for yelloweye rockfish.

NMFS Action

For the reasons stated above, NMFS announces the following change to the 2004 annual management measures (69 FR 24524, May 4, 2004) to read as follows:

1. On page 24526, in the third column, in section 24. Sport Fishing for Halibut, paragraphs (4)(b)(v)(A)(3) and (4)(b)(v)(B) in the third column are revised to read as follows:

24. Sport Fishing for Halibut

* * * * *

(4) * * *

(b) * * *

(v) * * *

(A) * * *

(3) If sufficient unharvested catch remains, the third season (summer season), which is for the “all-depth” fishery, will be open August 6, 7, 20, and 21, September 3, 4, 17, 18, 24, 25, and 26, and October 1, 2, 3, 8, 9, 10, 15, 16, 17, 22, 23, 24, 29, 30, and 31, or until the combined spring season and summer season quotas in the area between Cape Falcon and Humbug Mountain, OR, totaling 259,604 lb (117.8 mt), are estimated to have been taken and the area is closed by the Commission, whichever is earlier. NMFS will announce fishery openings and closures on the NMFS hotline.

(B) The daily bag limit is the first two halibut taken, per person, of 32 inches (81.3 cm) or greater in length.

* * * * *

Classification

This action is authorized by section 25 of the IPHC regulations published at 69 FR 24524 (May 4, 2004). The determination to take these actions is based on the most recent data available. The Assistant Administrator for Fisheries, NOAA (AA), has determined that good cause exists for this document to be published without affording a prior opportunity for public comment under 5 U.S.C. 553(b)(3)(B) because doing so would be impracticable. Providing prior notice and opportunity for public comment would be impracticable because it might prevent fishers from achieving their recreational harvest opportunity for halibut within this subarea's quota for the season. NMFS has concluded, based on the slow rate of catch of halibut in Oregon's central coast recreational fishery in 2004, fishers may not have an opportunity to harvest the 2004 quota if they are limited to the season open dates and one-fish bag limit established pre-season. Thus, potential season reopening dates and an increased bag limit of two-fish per day are announced in this action for the Oregon central coast all-depth sport halibut fishery. The additional potential reopening dates and increased bag limit are intended to allow anglers an opportunity to attain the Oregon central coast halibut quota for 2004 and flexibility in scheduling openings for any or all of those dates. However, there was not sufficient time between getting the information on the slow season catch for 2004 and the additional reopening dates to afford the public prior notice and opportunity for comment. NMFS received the information on September 1, 2004. The first new reopening date is September 24, 2003. NMFS needed time to write and review the changes to the regulations. In addition, this action relieves a restriction by providing additional opportunity for anglers to harvest halibut if sufficient quota remains. If there are no additional reopening dates added to the season or an increased bag limit, anglers may be restricted by not being able to harvest the full halibut quota for 2004. For the above reasons and because this action relieves a restriction, the AA has also determined that good cause exists to waive the delay of effectiveness of this action under 5 U.S.C. 553(d)(1) and (d)(3).

Public comments will be received for a period of 15 days after the publication in the Federal Register . This action is authorized by section 25 of the IPHC's annual management measures for Pacific halibut fisheries published on May 4, 2004 (69 FR 24524), and has been determined to be not significant for purposes of Executive Order 12866.

Authority: 16 U.S.C. 773-773k.

Dated: September 20, 2004.
John H. Dunnigan,
Director, Office of Sustainable Fisheries, National Marine Fisheries Service.

[FR Doc. 04-21553 Filed 9-22-04; 12:07 pm]

BILLING CODE 3510-22-S